COMMITTEE FOR PURCHASE FROM PEOPLE WHO ARE BLIND OR SEVERELY DISABLED

Procurement List; Proposed Deletions

AGENCY: Committee for Purchase From People Who Are Blind or Severely Disabled.

ACTION: Proposed Deletions from the Procurement List.

SUMMARY: The Committee is proposing to delete product(s) and service(s) from the Procurement List that were furnished by nonprofit agencies employing persons who are blind or have other severe disabilities.

DATES: Comments must be received on or before: October 20, 2024.

ADDRESSES: Committee for Purchase From People Who Are Blind or Severely Disabled, 355 E Street SW, Suite 325, Washington, DC 20024.

FOR FURTHER INFORMATION CONTACT: For further information or to submit comments contact: Michael R. Jurkowski, Telephone: (703) 489-1322 or email CMTEFedReg@AbilityOne.gov.

SUPPLEMENTARY INFORMATION: This notice is published pursuant to 41 U.S.C. 8503 (a)(2) and 41 CFR 51-2.3. Its purpose is to provide interested persons an opportunity to submit comments on the proposed actions.

Deletions

The following product(s) and service(s) are proposed for deletion from the Procurement List:

Product(s)

NSN(s)—Product Name(s):

2540-00-248-4603—Blade, Windshield Wiper, HMMW Vehicle, 18”L

2540-01-262-7708—Blade, Windshield Wiper, HMMW Vehicle, 20”L

2540-01-271-8026—Blade, Windshield Wiper, HMMW Vehicle, 16”L

2540-01-454-0415—Blade, Refill, Windshield Wiper, HMMW Vehicle, 20”L

Authorized Source of Supply: Georgia Industries for the Blind, Bainbridge, GA

Contracting Activity: DLA LAND AND MARITIME, COLUMBUS, OH

Service(s)

Service Type: Custodial Service

Mandatory for: US Army Reserve, Wetzel County Memorial USARC, New Martinsville, WV

Authorized Source of Supply: PACE Enterprises of West Virginia, Inc., Morgantown, WV

Contracting Activity: DEPT OF THE ARMY, W6QK ACC-PICA

Service Type: Laundry Service

Mandatory for: US Army, Joint Base Myer-Henderson Hall, Arlington, VA

Authorized Source of Supply: Louise W. Eggleston Center, Inc., Norfolk, VA

Contracting Activity: DEPT OF THE ARMY, W6QM MICC-FT BELVOIR

Service Type: Mess Attendant Service

Mandatory for: US Air Force, 128th Air Refueling Wing, Wisconsin Air National Guard Dining Facility, Milwaukee, WI

Authorized Source of Supply: Ada S. McKinley Community Services, Inc., Chicago, IL

Contracting Activity: DEPT OF THE ARMY, W7N8 USPFO ACTIVITY WI ARNG

Service Type: Food Service Attendant

Mandatory for: US Air Force, 182nd Airlift Wing, Illinois Air National Guard Reserve Center, Peoria, IL

Authorized Source of Supply: Community Workshop and Training Center, Inc., Peoria, IL

Contracting Activity: DEPT OF THE ARMY, W7M6 USPFO ACTIVITY IL ARNG

Service Type: Janitorial/Custodial

Mandatory for: US Army Reserve, Prince George's County Memorial USARC, 6601 Baltimore Avenue, Riverdale, MD

Authorized Source of Supply: WeAchieve, Inc., Silver Spring, MD

Contracting Activity: DEPT OF THE ARMY, W6QK ACC-PICA

Service Type: Janitorial/Custodial

Mandatory for: US Army Reserve, Southern Maryland Memorial USARC, 5550 Dowerhouse Road, Upper Marlboro, MD

Authorized Source of Supply: WeAchieve, Inc., Silver Spring, MD

Contracting Activity: DEPT OF THE ARMY, W6QK ACC-PICA

Service Type: Laundry Service

Mandatory for: US Army, Mission and Installation Contracting Command, Fort Belvoir, VA

Authorized Source of Supply: Louise W. Eggleston Center, Inc., Norfolk, VA

Contracting Activity: DEPT OF THE ARMY, W6QM MICC-FT BELVOIR

Service Type: Laundry Service

Mandatory for: US Army, Medical Research Institute of Chemical Defense, Chemical Casualty Care Division, Aberdeen Proving Ground-South, MD

Authorized Source of Supply: Elwyn of Pennsylvania and Delaware, Aston, PA

Contracting Activity: DEPT OF THE ARMY, W4PZ USA MED RSCH ACQUIS ACT

Michael R. Jurkowski,
Director, Business Operations.

[FR Doc. 2024-21591 Filed 9-19-24; 8:45 am]

BILLING CODE 6353-01-P